DEPARTMENT OF JUSTICE

Drug Enforcement Administration

[Docket No. DEA-392]

Manufacturer of Controlled Substances Registration: Research Triangle Institute

ACTION: Notice of registration.

SUMMARY: Research Triangle Institute applied to be registered as a manufacturer of certain basic classes of controlled substances. The DEA grants Research Triangle Institute registration as a manufacturer of those controlled substances.

SUPPLEMENTARY INFORMATION: By notice dated July 2, 2014, and published in the Federal Register on July 14, 2014, 79 FR 40781, Research Triangle Institute, Kenneth S. Rehder, Ph.D., Hermann Building East Institute Drive, P.O. Box 12194, Research Triangle Park, North Carolina 27709, applied to be registered as a manufacturer of certain basic classes of controlled substances. No comments or objections were submitted to this notice.

The Drug Enforcement Administration (DEA) has considered the factors in 21 U.S.C. 823(a) and determined that the registration of Research Triangle Institute to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
Marihuana (7360) | I
Tetrahydrocannabinols (7370) | I
Cocaine (9041) | II

The company will manufacture marihuana and cocaine derivatives for use by their customers in analytical kits, reagents, and reference standards as directed by the National Institute on Drug Abuse.

Dated: January 9, 2015.
Joseph T. Rannazzisi,
Deputy Assistant Administrator.

[FR Doc. 2015-01301 Filed 1-23-15; 8:45 am]

BILLING CODE P